DEPARTMENT OF INTERIOR

Bureau of Land Management

[NM-050-1430-ES; NMNM 101695]

Notice of Realty Action; Recreation and Public Purposes Act Classification (R&PP); New Mexico

AGENCY: Bureau of Land Management (BLM), Interior.

ACTION: Notice of realty action; R&PP Classification.

SUMMARY: The following public lands in Socorro County, New Mexico, have been examined and found suitable for classification for lease or conveyance to the State of New Mexico, through the Regents of the Museum of New Mexico (State Monuments Division) under the provisions of the R&PP Act, as amended (43 U.S.C. 869 et. seq.). The New Mexico State Monuments Division, in partnership with the BLM, proposes to use the land to jointly construct, staff, and manage El Camino Real International Heritage Center (“Center”).

New Mexico Principal Meridian

T. 8 S., R. 3 W.,

Sec 24, SW¼ SE¼ and W½ SE¼ SE¼

Sec 25, lots 5, 6, 19, and 20.

Containing 119.33 acres more or less;

The lands are not needed for other federal purposes. BLM will be a partner with the State of New Mexico in constructing, staffing, and operating the Center. Lease or conveyance is consistent with BLM's amended land use plan and would be in the public interest.

DATES: Interested parties may submit comments on the classification or proposed lease/conveyance. Comments must be submitted on or before September 24, 2001.

ADDRESSES: Comments should be sent to Field Office Manager, Socorro Field Office, 198 Neel Ave., NW., Socorro, New Mexico 87801.

FOR FURTHER INFORMATION CONTACT: Charles Carroll, Resource Advisor, Socorro Field Office, 198 Neel Ave., NW, Socorro, New Mexico 87801, or telephone (505) 838-1278.

SUPPLEMENTARY INFORMATION: The lease/patent, when issued, will be subject to the following terms, conditions, and reservations:

1. Provisions of the R&PP Act and to applicable regulations of the Secretary of the Interior.

2. A right-of-way for ditches and canals constructed by the authority of the United States.

3. All minerals deposits in the land and the rights of the United States, or persons authorized by the United States, to prospect for, mine and remove such deposits from the same under applicable laws and regulations to be established by the Secretary of the Interior.

4. An easement for Socorro County Road 255.

Detailed information concerning this action is available for review at the Socorro Field Office, 198 Neel Ave., NW, Socorro, New Mexico.

Upon publication of this notice in the Federal Register, the land will be segregated from all other forms of appropriation under the public land laws, including the general mining laws, except for lease or conveyance under the R&PP Act and leasing under the mineral leasing laws. For a period of 45 days from the date of publication of this notice in the Federal Register, interested persons may submit comments regarding the proposed lease/conveyance or classification of the lands to the address listed above.

Classification Comments: Interested parties may submit comments involving the suitability of the land for a Heritage Center facility. Comments on the classification are restricted to whether the land is physically suited for a Heritage Center facility, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a Heritage Center facility.

Any adverse comments will be reviewed by the State Director. In the absence of any adverse comments, the classification will become effective 60 days from the date of publication of this notice in the Federal Register.

Dated: July 13, 2001.
Kate Padilla,
Socorro Field Office Manager.

[FR Doc. 01-20023 Filed 8-8-01; 8:45 am]

BILLING CODE 4310-FB-P